DEPARTMENT OF THE INTERIOR

Bureau of Safety and Environmental Enforcement

[Docket ID: BSEE-2014-0006; 14XE8370SD ED1OS0000.JAE000 EEGG000000]

Notice of Availability for GENWEST EDRC Study and the National Academy of Sciences Letter Report (on the GENWEST Study); Comment Request

ACTION: Notice.

SUMMARY: The Bureau of Safety and Environmental Enforcement (BSEE) is inviting you to provide comments on the GENWEST Systems, Inc., Effective Daily Recovery Capacity (EDRC) Study, National Academy of Sciences (NAS) Letter Report summarizing its peer review of the GENWEST Study, and comments provided by BSEE regarding each document.

Background: EDRC is a calculation method established within BSEE's and the United States Coast Guard's (USCG) regulations to assign an oil recovery capability value to oil skimming equipment. Although the EDRC methodology was finalized in the early 1990's and has been an integral component of industry response planning and readiness for the past 20 years, the methodology came under heavy scrutiny in the wake of the 2010 Deepwater Horizon oil spill. This spurred an open debate and ongoing dialogue on how to best improve the EDRC planning standard. In late 2011, BSEE contracted with GENWEST Systems Inc. to evaluate the EDRC methodology and to develop recommendations for improving the planning standard for the mechanical recovery of oil on water. GENWEST's final report produced the concept of Estimated Recovery System Potential (ERSP), an oil encounter rate-based calculator that evaluates mechanical recovery equipment as a complete system as opposed to focusing on an individual component such as a skimmer or an intake pump. Shortly thereafter, BSEE contracted the National Research Council's Ocean Studies Board to conduct an independent, third party peer review of the ERSP methodology. The resulting National Academy of Sciences (NAS) Peer Review Letter Report validated the ERSP standard as a sound methodology and a significant improvement over EDRC. The peer review also identified a number of areas for further consideration where ERSP might be improved. BSEE is continuing to develop and refine the ERSP methodology, with the intent of evaluating ERSP as a potential revision to BSEE's oil spill response plan (OSRP) regulations. This notice provides a high level summary of some of the key elements of both documents, as well as BSEE comments regarding each document. It also includes BSEE's response to recommendations in the NAS Letter Report. While the development of a new planning standard for calculating the mechanical recovery of spills continues to undergo additional research and refinement, this notice provides an early opportunity for public viewing and comment on the GENWEST EDRC Study and NAS Letter Report documents which are available in the regulations.gov docket ID: BSEE-2014-0006 and on the BSEE Web site at http://www.bsee.gov/Research-and-Training/Oil-Spill-Response-Research/Projects/Project-673/, as well as an opportunity to comment on the BSEE's responses to the findings and recommendations contained in each document.

DATES: You must submit comments by October 6, 2014. The BSEE may not fully consider comments received after this date. While BSEE does not intend to publish another notice in the Federal Register solely to respond to comments submitted to this specific request, all comments received will be posted in the docket and considered as inputs into the ongoing analyses regarding the effort to improve the existing EDRC planning standard, and will become part of the official agency record for this project. As such, the contents of any comments received may be used and/or cited, as appropriate, in the preambles of future BSEE rulemaking documents that would implement an updated mechanical oil recovery planning standard as part of BSEE's OSRP regulations.

ADDRESSES: You may submit comments and additional materials by any of the following methods.

• Electronically: Go to http://www.regulations.gov. In the Search for box, enter BSEE-2014-0006, then click search. Follow the instructions to submit public comments and view supporting and related materials available for this notice.

• Email: oilspillresponsedivision@bsee.gov or mail or hand-carry comments to the Department of the Interior, Bureau of Safety and Environmental Enforcement, Oil Spill Response Division, 381 Elden Street, HE 3327, Herndon, Virginia 20170, Attention: Mr. John Caplis. Please reference GENWEST EDRC Study and the National Academy of Sciences Letter Report in your comments and include your name and return address.

FOR FURTHER INFORMATION CONTACT: Mr. John Caplis, Oil Spill Response Division, 703-787-1364, john.caplis@bsee.gov to request additional information about this notice.

SUPPLEMENTARY INFORMATION:

The Current EDRC Planning Standard: The current EDRC planning standard was developed as part of a negotiated rulemaking process involving Federal and state government, industry, and non-governmental organizations following the passage of the Oil Pollution Act (OPA) of 1990 (Pub. L. 10, 1-380, Aug 18, 1990, as amended). This regulatory methodology was intended to quantify the amount of oil spill response equipment (i.e., skimmers) needed by plan holders for an effective response to their worst-case discharge (WCD) spill scenario. The formula for EDRC has not changed since its adoption in 1992:

EDRC = T × 24 hours × E

In this formula, “T” is a skimmer's throughput (or recovery) rate in “barrels per hour” and “E” is an efficiency factor that was set at 20 percent (or 0.2).

In practice, the method has been applied as the hourly throughput rate (as determined by the manufacturer's assigned nameplate recovery rate) multiplied by 24 hours and then discounted by a 20 percent efficiency factor. The result is an estimate of the number of barrels (bbls) of oil that can be recovered in any daily operational period. If a skimmer requires a pump that determines the throughput of fluids, the pump capacity becomes the determining factor in assigning an EDRC value to a piece of skimming equipment.

The 20 percent efficiency (de-rating) factor was determined through consensus by an Oil Spill Response Plan Negotiated Rulemaking Advisory Committee. The de-rating factor accounts for a mix of environmental and operational considerations (such as temperature, sea state, oil viscosity, hours of daylight, the presence of debris, and the ability to separate oil and water) that would limit or reduce the effectiveness of a skimmer's capability to recover oil over a 24-hour operational period. There are other critical influences on mechanical recovery that were not incorporated into the EDRC calculation. Some of the most important factors omitted include oil encounter rate (i.e., the rate at which a skimmer is able to access spilled oil), onboard storage capacity, and human factors (proficiency in skimmer operation).

Observations and Criticisms of EDRC During the Deepwater Horizon Oil Spill: The Deepwater Horizon oil spill dramatically highlighted how mechanical recovery systems can be significantly limited by low encounter rates. Emanating from a well nearly a mile below the ocean surface, the spilled oil surfaced over a wide geographical area and had already thinned much in terms of oil thickness. The oil slick that was available for recovery was widely discontinuous, had a large, expanding areal footprint, and a rapidly diminishing surface thickness. An unprecedented quantity of skimmers, boom, and other types of spill response equipment were cascaded in from across the United States, as well as from other nations, resulting in a massive amount of offshore mechanical recovery capability that was used during the response. Despite this effort, the aforementioned factors worked against the mechanical recovery task forces operating offshore—reducing their overall effectiveness in encountering, containing and recovering the oil. As a result, significant amounts of shoreline oiling occurred across the Gulf of Mexico. Both government and industry-sponsored lessons learned reports identified the performance and effectiveness of skimming systems as a focal point in their observations and findings.

The National Commission on the BP Deepwater Horizon Oil Spill and Offshore Drilling's Final Report, BP Deepwater Horizon Incident Specific Preparedness Review (ISPR) Final Report, and Joint Industry Oil Spill Preparedness and Response Task Force (JITF) Second Progress Report all highlight the limitations of the EDRC methodology, and recommend improvement of the mechanical recovery planning standard. The National Commission report states that EDRC should be revised to encourage the development of more efficient systems. The BP Deepwater Horizon ISPR Report points out that the total EDRC for equipment used on-scene during the spill far exceeded BP's mandated OSRP requirements. However, this extensive armada of mechanical recovery equipment did not recover oil quantities that corresponded to their aggregated EDRC values. The ISPR Report recommends that the regulations be revised to include a reliable, dynamic efficiency measure that accurately reflects the limitations of encountering significant volumes of oil on the water, and also should encourage more research and development to improve the effectiveness of skimmer systems. The JITF Second Progress Report states that government and industry must recognize the limitations of existing mechanical recovery equipment, and pursue incentives to improve boom and skimmer designs, especially in the offshore environment. Furthermore, the JITF also recommends that the government revisit the EDRC regulations in order to determine if improvements to the planning standard are necessary.

The EDRC Study: Through a competitive procurement, BSEE initiated a third party, independent research contract to:

(1) Evaluate existing EDRC methodologies,

(2) examine de-rating in order to identify the key variables that impact skimming system recovery rates,

(3) develop recommendations for an improved mechanical recovery planning standard, and

(4) create a user-friendly, computer-based planning tool based on those recommendations.

GENWEST Systems, Inc., a private sector information management and environmental services consulting firm, was awarded the research contract in September 2011 and completed its final project report in December 2012.

The capstone of the GENWEST report is a new methodology and computer-based planning tool for estimating mechanical oil recovery capability called the ERSP calculator. Based on algorithms similar to those within the GENWEST developed Response Options Calculator, the ERSP calculator is an oil encounter-rate based planning tool that measures the performance of an entire mechanical recovery skimming system.

The ERSP calculator addresses the effect of encounter rate on a skimmer through three key variables: The swath width of the skimming system configuration, the speed of advance of the skimming system relative to the motion of the oil slick, and the thickness of the oil being collected. The calculator uses three different nominal oil thicknesses that decrease with time over a 3-day period in order to model the reduced amounts of oil available to a skimming system due to the effects of spreading. The selection of the nominal oil thickness values (0.1 inch for Day 1, 0.05 inch for Day 2, and 0.025 inch for Day 3) are based on the results of over 400 computer simulations of oil spreading where temperature, wind, discharge volume, and oil type were varied in different combinations. The three resulting thicknesses that were selected are representational values that are reasonably acceptable across a wide range of scenarios. The calculator enables the plan holder to input customized values for both the swath width and the speed of advance for a skimming system, which are then used to estimate areal coverage for a recovery system during an operational period. The calculator then applies the nominal oil thicknesses to the areal coverage achieved in order to estimate the oil encountered.

The next steps in the ERSP methodology apply the “recovery” parameters of the skimming system to the amount of the oil encountered. These parameters include an estimate of the oil recovered compared to the total volume of the fluids recovered (i.e., the oil/water recovery ratio otherwise referred to as the system's Recovery Efficiency), an estimate of the oil removed compared to the oil encountered (i.e., the effectiveness of the containment elements of the skimming system as opposed to entrainment of the oil, referred to as Throughput Efficiency), the skimmer nameplate recovery rate, the amount of onboard fluid storage, decanting or oil/water separation abilities, intake and offload pump rates, and offloading set up and transit times. The application of the “encounter rate” and “recovery” system variables, when applied to the available oil thicknesses for each operational period, create estimates of the system's effective recovery potentials for Day 1, Day 2, and Day 3 of a spill. If a skimming system's configuration remains fixed over time, then the recovery potential of the system will decrease from day to day as the oil available for skimming also decreases; however, a skimming system's configuration can often be adjusted during subsequent operational periods to maintain or minimize the loss of recovery potential.

The National Academy of Sciences Letter Report: The National Academy of Sciences (NAS) is a nonprofit, self-perpetuating society of scholars dedicated to the furtherance and use of science and technology for the general welfare. Under the charter granted to it by Congress, the Academy has a mandate to advise the Federal government on scientific and technical matters. The National Research Council was organized by the NAS as the principal operating agency for the Academies in providing services to government, the public, and the scientific communities. In the spring of 2013, BSEE contracted the National Research Council's Ocean Studies Board to conduct an objective technical evaluation of the GENWEST EDRC Report and the ERSP methodology. The Ocean Studies Board assembled an ad hoc study committee of five subject matter experts that completed and delivered their Peer Review Letter Report in November of 2013.

The Letter Report concluded that the ERSP methodology was sound and a substantial improvement over the current EDRC methodology. While the committee cited many improvements, they felt that the greatest strength of the new ERSP methodology was its evaluation of the entire skimming system as a whole as opposed to any single part of it.

The committee's most significant concerns regarding the ERSP's methodology focused on the nominal oil thicknesses selected by the GENWEST team. These thicknesses were meant to be representative of the “thickest” oil available during each operational period. The ERSP methodology assumes that a skimming system will be able to operate in oil at these nominal thickness values for the entire time it is skimming during the operational periods on the first three days. The committee, however, felt that the real distribution of thick oil will be discontinuous, or patchy, and that the ERSP model should address this factor in its calculations. The Letter Report also goes on to suggest that some field observations for slick thicknesses are generally less than those used by the ERSP calculator. The study committee concluded that the GENWEST thicknesses are likely to overestimate actual encounter rates and would provide an overly optimistic assessment of a skimming system's actual recovery potential. The committee recommended applying a “patchiness de-rating factor” to the encounter rate calculation, and also suggested adding the ability to enter different oil thickness values into the calculator. Encounter rates would then be adjusted for the discontinuous nature of the thick oil patches, and more customized thicknesses could be entered into the calculator based on the circumstances of the release scenario and the particular properties of the plan holder's oil type.

The committee also recommended that regulators work with the GENWEST team to develop a more detailed user manual that would further explain the ERSP calculator assumptions, provide additional guidance to users on the selection of certain input values, and would provide default values for some of the more uncertain or unknown parameters. The committee also recommended the use of the American Society for Testing and Materials (ASTM) Standard F2709-08, as the means to determine the Nameplate Recovery Rate value in the ERSP calculator. Finally, the committee recommended a broader approach of considering all potential response options in future rulemakings.

BSEE Comments Regarding the GENWEST Study: BSEE believes the GENWEST EDRC study provides a solid foundational work for building an improved mechanical recovery planning standard. The ERSP methodology has necessarily sacrificed the increased accuracy of a more complex and customizable model in order to create a simple, accessible planning tool that is applicable across a wide range of planning scenarios. In striking this important balance, the ERSP methodology successfully addresses many of the issues identified concerning EDRC, and also incorporates some key compromises into its assumptions and algorithms that BSEE will have to examine carefully. BSEE submits the following statements for public review and comment regarding its assessment of the ERSP calculator and the GENWEST EDRC Study:

ERSP Creates Incentives for More Effective Skimming Systems: The ERSP methodology is a practical approach to evaluating mechanical oil recovery systems that includes incentives for improving system performance. The ERSP calculator rewards recovery systems that maximize encounter rate and minimize skimming downtime during offloading periods. The calculator provides plan holders and Oil Spill Removal Organizations (OSROs) with a very useful tool for assessing and comparing different configurations for almost any type of skimming system. Plan holders can input different values into the calculator for many of the recovery system's variables, such as swath width, speed, decanting, onboard storage, and pump rates, in order to explore the resultant effects on encounter rate and recovery potential. Plan holders and OSROs will be able to identify the parameters that will best increase a system's recovery potential, and should be able to use this information to guide their design, investment, and operational deployment decisions.

The calculator's algorithms will encourage plan holders and OSROs to acquire and configure skimming systems with higher areal coverage rates (through increased swath widths or increased speeds of advance relative to the motion of the oil), higher nameplate capacities and recovery efficiencies, and more effective collection and containment arrangements that limit the entrainment of oil. The calculator will also create incentives for developing skimming systems that have increased onboard storage, faster oil transfer rates, and effective decanting capabilities.

ERSP Challenges in the Nearshore and Inshore Operating Environments: ERSP algorithms and operating incentives are well suited for offshore skimming operations, but are less so for the nearshore and inland operating environments. Decanting in the offshore environment provides a tremendous advantage that maximizes the use of onboard storage and reduces offload times. However, decanting is not realistic for many nearshore and inshore scenarios. In more confined, shallow areas, skimming systems with large swath widths and large onboard or tethered storage solutions are likely to be ineffective. Advancing skimmers used in nearshore areas will still require high recovery efficiencies; however, shallow drafts and maneuverability now become more important than large swath widths and bulky onboard storage arrangements. As a result, many nearshore skimming systems are likely to have ERSP potential values significantly below their EDRC ratings, despite being optimally configured for their operating environments. Mechanical recovery in inshore areas is even more disassociated with many of the incentives of the ERSP calculator, as mechanical recovery in these settings often relies on deflection and collection booming and stationary skimming arrangements.

While ERSP may still be a useful measure of potential in the nearshore area, limits may be necessary on the use of certain ERSP variables, such as swath width and decanting. It may also be necessary to consider a mixture of different equipment rating schemes and requirements for mechanical recovery in these operating environments. The rating of skimming systems and the reviews of OSRPs in these operating areas may require a more scenario-based approach than regulators have used in the past.

ERSP Emphasizes a Rapid Response Capability: As the calculator applies substantially decreasing oil thicknesses over the first 3 days of a spill, the ERSP methodology creates a powerful incentive for skimming systems to arrive onsite as quickly as possible. The calculator clearly demonstrates that plan holders and responders will reach a point of diminishing returns for bringing in additional mechanical recovery equipment as time progresses and oil becomes less available for skimming. While this circumstance is somewhat mitigated during a sustained release such as a well blowout (where there may be fresh, thick, concentrated oil available each day), the fact remains that mechanical recovery equipment performs at its highest recovery potential in the earliest hours of a spill when encounter rates can be maximized.

ERSP Does not Address Staging, Mobilization, or Transit Times: While the ERSP methodology emphasizes a rapid response, it does not factor into its calculations the time it takes to mobilize and deliver a mechanical recovery system to the site of a spill. GENWEST, at the direction of BSEE, used a fixed operational period of 12 hours for the EDRC Study, and did not incorporate the effects of equipment mobilization and delivery times on recovery potentials. The ERSP calculator does, however, have an input variable for each day's “operating period”, which could be reduced to account for these factors related to response time.

The OSROs and plan holders could adjust the operating period accordingly if BSEE provides guidance on how to account for each mobilization factor. The BSEE currently does not factor response times into its regulations and currently does not require adjustments to EDRC values based on mobilization times. Additional guidance and regulations may be needed in order to adequately account for mobilization times when inputting the operational period into the ERSP calculator.

ERSP Calculations Assumes the Use of Best Practices and Best Commercially Available Technology: In the selection of representative oil thicknesses for each operational period, the ERSP calculator assumes that operators will be using the best technologies commercially available, such as remote sensing tools, as well as operational best practices, in their skimming activities. This is especially important for ensuring operator proficiency, and for identifying, tracking, and keeping recovery systems in thick oil continuously during skimming operations. If operators do not employ such technology and best practices, then the ERSP calculator is likely to provide an overstated recovery potential for a system. The calculator does not include any built in incentives for the use of these critical best practices and technologies. Creating these incentives or requirements may therefore have to be addressed through regulatory requirements, industry standards, and recommended practices.

BSEE Comments Regarding the NAS Letter Report: The BSEE agrees with the NAS Letter Report findings that the new approach for evaluating mechanical recovery equipment, Estimated Recovery System Potential (ERSP), is basically sound and an improvement over methods currently employed by BSEE and USCG oil spill response planning regulations. The BSEE also acknowledges each of the insightful recommendations offered for possible improvement in the NAS Peer Review Letter Report, and has carefully considered their potential for improving the existing EDRC and proposed ERSP methodologies. As stated earlier in this document, BSEE believes that the ERSP methodology has necessarily sacrificed a degree of accuracy associated with a more complex and customizable model in order to create a simple, accessible planning tool that is applicable across a wide range of planning scenarios. In striking this important balance, the ERSP methodology successfully addresses many of the issues concerning EDRC, but also incorporates some key compromises into its assumptions and algorithms. The NAS Letter Report identifies some of these compromises as shortfalls, and provides several recommendations that would increase the accuracy of the ERSP calculator, but would also significantly increase the complexity of using the calculator. BSEE carefully weighed these sometimes opposing factors when evaluating the NAS recommendations, and ultimately placed a premium on ensuring the calculator remained a simple, useful planning tool that is best suited to the needs of plan holders and government reviewers. Where BSEE could not fully address the NAS's concerns or suggested improvements with changes to the ERSP calculator itself, BSEE will work to address the issues where possible through other associated processes such as potential changes to the OSRP regulations. As such, BSEE provides the following comments with regard to the NAS recommendations:

Using a “System of Response Options” Approach: The NAS recommends BSEE consider adopting a systems approach in the OSRP regulations that incorporates other response options in addition to mechanical oil recovery capabilities. BSEE fully agrees with this statement and will be conducting further studies to explore the development of additional planning tools and potential requirements for other response options such as dispersants and in situ burning.

Using an ASTM Standard to Estimate Nameplate Recovery Rate and Recovery Efficiency of a Skimming System: The NAS recommends that the nameplate recovery rate input parameter for a skimmer be generated through the use of operational testing using a standard such as ASTM F2709-08. The NAS also recommends that the input value for skimmer Recovery Efficiency (RE) could be generated by using ASTM F2709-08 or a similar standard. While BSEE would agree with the suggestion to use ASTM standards whenever appropriate, it should be noted that the ASTM F2709-08 standard tests a skimming system's performance in ideal conditions to determine a skimmer's nameplate recovery rate, and does not account for the effects of sea state or other operating conditions that may reduce a system's effectiveness and efficiency. ASTM F2709-08 does offer the promise as a low cost, easily replicated test for producing Nameplate Recovery Rate input values. As this testing method provides an assessment of optimal recovery rates measured under ideal skimming conditions, BSEE has been in discussions with members of the ASTM F20 Committee on how to best apply the existing standard or with regard to possible adjustments to the F2709-08. BSEE will continue to discuss and evaluate the practicality of using ASTM 2709-08, or of developing a new or revised standard that would complement the use of ERSP with ASTM.

Developing More Guidance on Selecting Input Values and a More Detailed ERSP User Manual: The NAS recommends developing a more detailed user manual that provides the logic behind the default values for certain parameters, and provides additional guidance for selecting and entering each of the user-defined inputs. BSEE agrees that additional information in a more detailed user manual would be beneficial to both response plan holders and government reviewers. BSEE will implement this recommendation to provide more background information on ERSP assumptions and any specified default values, and develop additional guidance on the selection of user-defined input variables in a more detailed user manual.

Reducing Oil Thickness Values to Account for the Discontinuous Nature of Oil Slicks: The NAS recommended adjustment of the ERSP methodology to account for the discontinuous nature of oil slicks, specifically as it relates to a skimming system's ability to continuously encounter oil for removal. Additionally, NAS reviewers observed that the representative oil thickness values chosen by GENWEST are higher than those gathered during field observations from actual spills or laboratory tests. The NAS concluded that the lack of a spatial element for the patchiness of oil slicks along with the current values chosen for oil thicknesses in the ERSP calculator would overstate oil encounter rates and recovery potential values, especially on Day 2 and Day 3 of a spill. The BSEE acknowledges the discontinuous nature of most oil spills as well as the fact that choosing a set of oil thickness values that adequately represent actual encounter rates over a wide range of scenarios is a very important but extremely challenging aspect of developing the ERSP calculator. The BSEE discussed this process at length with the GENWEST study team, and believes the values selected for oil thicknesses by the GENWEST team are valid planning values that adequately cover the very wide range of variables involved across a very broad set of industry response plans, and do not need to be further adjusted. The GENWEST study team ran over 400 modeling simulations varying for oil type, spill size, and ambient conditions such as wind and temperature in order to generate the distribution of expected thickness values. GENWEST informed BSEE that they factored in the discontinuous nature of oil slicks in their modeling when they selected the thickness values. GENWEST also commented that the thickness values were selected with a bias toward responding to a very large worst case discharge (WCD) spill volume, which would increase the thickness values over those measured during smaller controlled discharges and spills of opportunity. BSEE agrees with these statements and believes the thickness values selected by GENWEST are valid for addressing response planning to a WCD as required under the OPA.

Incorporating Multiple Oil Thickness Scenarios Into the ERSP Calculator: The NAS recommends developing several planning scenario options that would allow plan holders to fine tune and customize their oil thickness values based on their oil type and facility-specific parameters. This would allow a plan holder to tailor their ERSP calculations for their specific operational conditions (such as a sustained subsea loss of well control of medium crude oil in the Gulf of Mexico or a well with heavy crude in the Arctic). While these recommendations may improve the accuracy of individual plan holders' specific ERSP calculations, BSEE believes the significant increase in complexity associated with using this approach far outweighs the minimal gains in accuracy that might be realized for an individual plan holder's ERSP values. At this time, BSEE does not plan to incorporate multiple scenarios that would require the customized inputs for oil thickness values to be estimated or selected based upon a plan holder's oil type, environmental operating conditions, and discharge scenarios.

Assigning Uncertainty Values to ERSP Input Values: The NAS suggests adding the ability for users to input uncertainty values attached to user-selected inputs, and that additional guidance in the user manual should be developed to guide users on how to interpret and use the outputs that would result. The end result of using these uncertainty values would be to create a probability range of ERSP outcomes rather than a singularly defined number, which the NAS believed would provide additional clarity on the accuracy of the ERSP data generated. BSEE does not believe it is necessary for users to develop and input uncertainty data, as this may unnecessarily complicate the use of the calculator tool, and would not result in additional information that is necessary for developing and/or reviewing effective OSRPs.

Additional Public Review: The NAS recommended the calculator methodology be exposed to an additional round of public review by a broad range of subject matter experts. Currently, BSEE relies on the NAS Letter Report itself as the primary means for subjecting the ERSP study to a rigorous “expert” assessment. However, BSEE fully acknowledges the value of additional public review of critical documents such the EDRC Study. BSEE believes publishing this Federal Register notice that announces the results of both the EDRC Study and NAS Letter Report (as well as BSEE's analysis and response to these documents), and providing an opportunity for public review and comment, successfully meets the intent of the NAS recommendation. Additionally, if any portion of the ERSP methodology were to be incorporated into a future Notice of Proposed Rulemaking (NPRM), there would be another opportunity, in addition to this Federal Register notice, for public review and comment.

Public Availibility of Comments: Before including your address, phone number, email address, or other personal identifying information in your comment, you should be aware that your entire comment including your personal identifying information may be made publicly available at any time. While you can ask us in your comment to withhold your personal identifying information from public review, we cannot guarantee that we will be able to do so.

Docket: All documents in the docket are listed in the http://www.regulations.gov index. Although all documents submitted will be listed in the index, some information may not be publicly available, e.g., confidential business information or other information whose disclosure is restricted by statute. Certain other material, such as copyrighted material, may be publicly available only in hard copy. Otherwise, publicly available docket materials are available electronically in http://www.regulations.gov.

Dated: July 29, 2014.
David M. Moore,
Chief, Oil Spill Response Division.

[FR Doc. 2014-18608 Filed 8-5-14; 8:45 am]

BILLING CODE 4310-VH-P